DEPARTMENT OF THE INTERIOR

Fish and Wildlife Service

Notice of Availability of the Approved Recovery Plan for the Karner Blue Butterfly (Lycaeides melissa samuelis)

AGENCY: Fish and Wildlife Service, Interior.

ACTION: Notice of document availability.

SUMMARY: The U.S. Fish and Wildlife Service (Service) announce the availability of the approved recovery plan for the Karner blue butterfly (Lycaeides melissa samuelis), a species that is federally-listed as endangered under the Endangered Species Act of 1973 (Act), as amended (16 U.S.C. 1531 et seq.). This species occurs or may occur on public and private land in Indiana, Michigan, Minnesota, New Hampshire, New York, Ohio, and Wisconsin. Actions identified for recovery of the Karner blue butterfly seek to restore and protect an adequate number of populations throughout its range to ensure long-term viability of the species in the wild.

ADDRESSES: U.S. Fish and Wildlife Service's approved recovery plans are available from:

1. Fish and Wildlife Reference Service, 5430 Grosvenor Lane, Suite 110, Bethesda, Maryland 20814 (the fee for the plan varies depending on the number of pages of the plan).

2. Field Supervisor, U.S. Fish and Wildlife Service, Green Bay, Wisconsin, Ecological Services Field Office, 2661 Scott Tower Drive, New Franken, Wisconsin 54229.

3. The World Wide Web at: http://endangered.fws.gov/RECOVERY/RECPLANS/Index.htm.

FOR FURTHER INFORMATION CONTACT: Ms. Catherine Carnes, Green Bay, Ecological Services Field Office (see ADDRESSES section No. 2 above); telephone (920) 866-1732. The Fish and Wildlife Reference Service may be reached at (301) 492-6403 or (800) 582-3421. TTY users may contact Ms. Carnes and the Fish and Wildlife Reference Service through the Federal Relay Service at (800) 877-8339.

SUPPLEMENTARY INFORMATION:

Background

Recovery of endangered or threatened animals or plants is a primary goal of the Service's endangered species program. A species is considered recovered when the species' ecosystem is restored and/or threats to the species are removed so that self-sustaining and self-regulating populations of the species can be supported as persistent members of native biotic communities. Recovery plans describe actions considered necessary for the conservation of the species, establish criteria for reclassification to threatened status or delisting listed species, and estimate time and cost for implementing the measures needed for recovery.

The Endangered Species Act of 1973, as amended, requires that recovery plans be developed for listed species unless such a plan would not promote the conservation of a particular species. Section 4(f) of the Act, as amended in 1988, requires that during recovery plan development, we provide public notice and an opportunity for public review and comment. Information presented during the comment period has been considered in the preparation of the approved recovery plan, and is summarized in an appendix to the recovery plan. We will forward substantive comments regarding recovery plan implementation to appropriate Federal agencies and other entities so they can take these comments into account during the course of implementing recovery actions.

The Karner blue butterfly was listed as endangered on January 21, 1992. The butterfly depends on savanna and barrens habitats that support wild lupine (Lupinus perennis), the only plant on which Karner blue butterfly larvae (or caterpillars) are known to feed. Continued loss and alteration to habitat due to commercial, residential, and agricultural development, fragmentation, and habitat degradation through succession have been identified as the primary reasons for this species' endangered status and continue to be the primary threats to its recovery. Today, the butterfly inhabits remnant savanna and barrens habitats, as well as other more disturbed habitat sites including forest stands, military bases, utility and road rights-of-way, and airports. Wisconsin and Michigan support the majority of populations throughout the range.

The objective of this plan is to provide a framework for the recovery of the Karner blue butterfly so that protection by the Act is no longer necessary. As recovery criteria are met, the status of the species will be reviewed and it will be considered for removal from the list of Endangered and Threatened Wildlife and Plants (50 CFR part 17). The Karner blue butterfly will be considered for reclassification to threatened when a minimum of 27 metapopulations [19 viable metapopulations (supporting 3,000 butterflies each), and 8 large viable metapopulations (supporting 6,000 butterflies each)] are established within at least 13 recovery units across the butterfly's range and are being managed consistent with the recovery objectives outlined in this plan. Delisting will be considered when a minimum of 29 metapopulations (13 viable and 16 large viable metapopulations) have been established within at least 13 recovery units and are being managed consistent with the plan.

Authority: The authority for this action is section 4(f) of the Endangered Species Act, 16 U.S.C. 1533 (f).

Dated: May 9, 2003.
Charles M. Wooley,
Assistant Regional Director, Ecological Services, Region 3, Fort Snelling, Minnesota.

[FR Doc. 03-23930 Filed 9-18-03; 8:45 am]

BILLING CODE 4310-55-P